DEPARTMENT OF THE INTERIOR

Bureau of Land Management

[MT100-03-1610-DU]

Intent To Prepare an Amendment to the Garnet Resource Management Plan (RMP) and an Associated Environmental Assessment (EA)

AGENCY: Bureau of Land Management, Interior.

ACTION: Notice.

SUMMARY: This document provides notice that the Bureau of Land Management (BLM) intends to prepare an amendment to the Garnet Resource Management Plan and an associated EA. This process will incorporate management direction for the Canada lynx, listed as a threatened species under the Endangered Species Act (ESA), which is based on the best scientific information available. If approved, the amendment would preserve the overall multiple-use direction of the RMP, while establishing management direction for Canada lynx conservation and recovery including: reducing or eliminating potential adverse effects from management activities and protecting and restoring lynx, snowshoe hare, and alternate prey species habitat.

Public Participation: The BLM is seeking comments from individuals, organizations, tribal governments, and Federal, State, and local agencies that are interested or may be affected by the proposed action. The scoping comment period will commence with the publication of this notice. Formal scoping will end 30 days after publication of this notice. Comments should be received on or before the end of the scoping period at the address listed below. While public participation is welcome at any time, comments received within 30 days of the publication of this notice will be especially useful in the preparation of the EA. To assist the BLM in identifying and considering issues and concerns on the proposed action, comments on the proposed EA should be as specific as possible. Reviewers may wish to refer to the Council on Environmental Quality Regulations for implementing the procedural provisions of the National Environmental Policy Act at 40 CFR 1503.3 in addressing these points.

ADDRESSES: Send written comments to Lynx Amendment EA, Missoula Field Office, 3255 Fort Missoula Road, Missoula, MT 59804. Comments, including names and addresses of respondents, may be published as part of this EA. Individual respondents may request confidentiality; if you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information, contact George Hirschenberger, Missoula Field Office, (406) 329-3908.

SUPPLEMENTARY INFORMATION: The BLM in the Montana State Office proposes to amend one land use plan, the Garnet Resource Management Plan, in the State of Montana. The proposed amendment would preserve the overall multiple-use direction of the RMP and modify or add management direction to the plan for Canada lynx conservation and recovery. The direction would be based on the management recommendations in the Canada Lynx Conservation Assessment and Strategy (LCAS), the Lynx Biological Assessment, the U.S. Fish and Wildlife Service Final Listing rule, Federal Register, Volume 65, Number 127, 40601-40606, March 24, 2000, and the best scientific information available. The BLM has identified preliminary issues and management concerns. The following represents the BLM's knowledge to date on potential planning issues: recreation, transportation, oil and gas leasing, mineral development, wildlife habitat restoration, prescribed fire, and livestock grazing and forest management, including timber harvesting, timber stand improvement and forest development. The BLM is seeking comments on the issues related to the proposed action.

Background: The Canada lynx inhabits coniferous forests with cold, snowy winters and a prey base of snowshoe hares. The lynx occupies approximately 44,000 acres of habitat on BLM lands administered by this resource management plan, which are located in Granite, Missoula, and Powell Counties, Montana. The U.S. Fish and Wildlife Service (Service) listed the lynx as threatened, effective March 24, 2000. The Service concluded that the chief threat to the lynx in the contiguous United States is the lack of guidance to conserve the species in current Federal land management plans. The Ecology and Conservation of Lynx in the United States, a compendium of current scientific knowledge about lynx, was completed in 2000 by an international team of experts in lynx ecology, directed by the Rocky Mountain Research Laboratory. Based on this information, the Canada Lynx Conservation Assessment and Strategy (LCAS) was completed and later revised by a team of biologists from the Forest Service, Bureau of Land Management, National Park Service and U.S. Fish and Wildlife Service in February 2000 and August 2000, respectively. After the lynx was proposed for listing in July 1998 under the ESA, conferencing was initiated on the effects of agency plans on the lynx. A Biological Assessment (BA) was prepared, which indicated that some adverse effects on lynx were likely on each of the 56 BLM and 57 Forest Service units evaluated. This BA was submitted to the U.S. Fish and Wildlife Service in February 2000. After listing, formal consultation on the plans was initiated, and was completed in October 2000. Because of the likelihood of adverse effects under current plans, and possible risk to lynx viability, the Assistant Director for Renewable Resources and Planning for the BLM Washington Office, and two Fish and Wildlife Service Regional Directors signed the Lynx Conservation Agreement in August 2000. It incorporates a staged approach to modifying management direction to better conserve the Canada lynx.

Dated: May 2, 2003.
Scott W. Lieurance,
Acting Missoula Field Manager.

[FR Doc. 03-13924 Filed 6-3-03; 8:45 am]

BILLING CODE 4310-$$-P